DEPARTMENT OF JUSTICE

Antitrust Division

Notice Pursuant to the National Cooperative Research and Production Act of 1993—Aerospace Vehicle Systems Institute (“AVSI”)

Notice is hereby given that, on July 8, 2002, pursuant to Section 6(a) of the National Cooperative Research and Production Act of 1993, 15 U.S.C. 4301 et seq. (“the Act”), Aerospace Vehicle Systems Institute (“AVSI”) has filed written notifications simultaneously with the Attorney General and the Federal Trade Commission disclosing changes in its production status. The notifications were filed for the purpose of extending the Act's provisions limiting the recovery of antitrust plaintiffs to actual damages under specified circumstances. Specifically, the AVSI Cooperative intends to undertake the following joint research projects:

“Fuel Cell Auxiliary Power Unit for Transport Aircraft”—To study the feasibility for fuel cell auxiliary power units (APUs) considering weight, size, and power generation, certification issues, and existing background work that may apply to fuel cell APUs for future transport aircraft. This study will assess the potential for increased reliability, efficiency, and economy with adoption of new technology and accelerated entry of this technology into the aircraft industry.

“Electronic Lighting/display Simulation (ELSIM)”—to improve electronic simulation capability of the flight deck and its components by procuring ASAP 7.0 optical modeling software and Rhino 2.0 NURBS modeling software, optical properties download, development of e-prototyping practices and conducting software training.

“Certification guidelines for the Integration of Wireless Communications for Aircraft”—develop a technology roadmap for the application of commercial off-the-shelf wireless communications systems onboard aircraft for non-essential and essential systems. Begin discussions with regulatory agencies to identify roadblocks and technology needs for the development of such systems.

“Micro Electro-Optical Sensors for Commercial Airplane Applications”—investigate the feasibility, gather recommendations and produce a technology development road map for applying micro electro-optical technology to commercial aircraft systems.

“Supplier-Side Collaboration Recommendations/Requirements”—to determine, collect and aggregate recommendations and requirements from the systems/component suppliers within aerospace industry for an electronic collaboration capability. Relate this set of recommendations/requirements to various original equipment manufacturers to ensure efficient connectivity and applications.

No other changes have been made in either the membership or planned activities of the group research project. Membership in this group research project remains open, and the Aerospace Vehicle Systems Institute (“AVSI”) Cooperative intends to file additional written notification disclosing all changes in membership.

On November 18, 1998, the AVSI Cooperative filed its original notification pursuant to Section 6(a) of the Act. The Department of Justice published a notice in the Federal Register pursuant to Section 6(b) of the ACT on February 18, 1999 (64 FR 8123).

The last notification was filed with the Department on March 14, 2002. A notice was published in the Federal Register pursuant to Section 6(b) of the Act on April 18, 2002 (67 FR 19252).

Constance K. Robinson,
Director of Operations, Antitrust Division.

[FR Doc. 02-22452 Filed 9-03-02; 8:45 am]

BILLING CODE 4410-11-M